DEPARTMENT OF VETERANS AFFAIRS

38 CFR Part 4

RIN 2900-AL32

Schedule for Rating Disabilities; Evaluation of Multiple Scars

AGENCY: Department of Veterans Affairs.

ACTION: Withdrawal of proposed rule.

SUMMARY: In a document published in the Federal Register at 67 FR 65915 on October 29, 2002, the Department of Veterans Affairs (VA) proposed to amend that portion of its Schedule for Rating Disabilities that addresses the Skin in order to clarify how to evaluate multiple superficial or deep scars in a uniform and consistent manner. Based on the nature of the public comments received, VA has decided that it would be appropriate to revise the proposed rule and publish a new proposed rule. This document withdraws that proposed rule.

DATES: The proposed rule is withdrawn as of December 29, 2006.

FOR FURTHER INFORMATION CONTACT: Maya Ferrandino, Regulations Staff (211D), Compensation and Pension Service, Veterans Benefits Administration, Department of Veterans Affairs, 810 Vermont Avenue, NW., Washington, DC 20420, (202) 273-7210.

SUPPLEMENTARY INFORMATION: The purpose of VA's notice of proposed rulemaking was to amend the Department of Veterans Affairs (VA) Schedule for Rating Disabilities (38 CFR part 4) by revising § 4.118, that portion of the Schedule that addresses scars. The intended effect of the rulemaking was to clarify the method of evaluating multiple superficial and deep scars and provide directions that promote consistent evaluations. VA has carefully considered the comments received on the proposed rule and has decided to withdraw that proposal. Accordingly, VA is withdrawing the proposal and is developing a new proposal, which it intends to publish at a later date.

Approved: December 6, 2006.
Gordon H. Mansfield,
Deputy Secretary of Veterans Affairs.

[FR Doc. E6-22340 Filed 12-28-06; 8:45 am]

BILLING CODE 8320-01-P